INTERNATIONAL TRADE COMMISSION

[Investigation No. 731-TA-1098 (Preliminary)]

Liquid Sulfur Dioxide From Canada

AGENCY: United States International Trade Commission.

ACTION: Revised schedule for the subject investigation.

EFFECTIVE DATE: November 17, 2005.

FOR FURTHER INFORMATION CONTACT: Russell Duncan (202-708-4727), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: The Commission instituted the subject investigation in response to a petition filed on September 30, 2005, by Calabrian Corporation, Kingwood, Texas (70 FR 58747, October 7, 2005). Subsequently, the U.S. Department of Commerce (“Commerce”) extended the date for its initiation of the investigation (70 FR 61937, October 27, 2005). Commerce's Initiation of Antidumping Duty Investigation: Liquid Sulfur Dioxide from Canada was published in the Federal Register on November 17, 2005 (70 FR 69735), thereby providing notice to the Commission of its initiation of the subject investigation. Accordingly, the Commission will transmit its determination in the preliminary phase of this investigation to Commerce within 25 days of November 17, 2005. The Commission's views are due at Commerce within five business days thereafter.

For further information concerning this investigation see the Commission's notice cited above and the Commission's Rules of Practice and Procedure, part 201, subparts A through E (19 CFR part 201) and part 207, subparts A and C (19 CFR part 207).

Authority: This investigation is being conducted under authority of title VII of the Tariff Act of 1930; this notice is published pursuant to section 207.12 of the Commission's rules.

Issued: November 18, 2005.
By order of the Commission.
Marilyn R. Abbott,
Secretary to the Commission.

[FR Doc. 05-23180 Filed 11-22-05; 8:45 am]

BILLING CODE 7020-02-P